DEPARTMENT OF DEFENSE

Office of the Secretary

[Docket ID: DoD-2024-OS-0134]

Submission for OMB Review; Comment Request

AGENCY: Office of the Under Secretary of Defense for Personnel and Readiness (OUSD(P&R)), Department of Defense (DoD).

ACTION: 30-Day information collection notice.

SUMMARY: The DoD has submitted to the Office of Management and Budget (OMB) for clearance the following proposal for collection of information under the provisions of the Paperwork Reduction Act.

DATES: Consideration will be given to all comments received by July 18, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Mandatory Disclosures as Part of Limitations on Terms of Consumer Credit Extended to Service Members and Dependents; OMB Control Number 0704-0444.

Type of Request: Extension.

Number of Respondents: 37,500.

Responses per Respondent: 6,347 averages (varies widely by type of respondent).

Annual Responses: 238,012,500.

Average Burden per Response: 30 seconds.

Annual Burden Hours: 1,983,438.

Needs and Uses: Title 10 United States Code (U.S.C.) 987 establishes limitations on terms of consumer credit extended to members of the Armed Forces and their dependents. The purpose of this information collection is to ensure disclosures required by 10 U.S.C. 987(c)(1) and discretionary checks of covered-borrower status stipulated in 32 Code of Federal Regulations 232.5(b)(2) by creditors in the process of extending consumer credit.

Affected Public: Individuals or households.

Frequency: On occasion.

Respondent's Obligation: Voluntary.

DoD Clearance Officer: Mr. Reginald Lucas.

Dated: June 13, 2025.
Stephanie J. Bost,
Alternate OSD Federal Register Liaison Officer, Department of Defense.

[FR Doc. 2025-11193 Filed 6-17-25; 8:45 am]

BILLING CODE 6001-FR-P